DEPARTMENT OF COMMERCE

National Oceanic and Atmospheric Administration

RIN 0648-XC544

Marine Mammals; File No. 17941

AGENCY: National Marine Fisheries Service (NMFS), National Oceanic and Atmospheric Administration (NOAA), Commerce.

ACTION: Notice; issuance of permit.

SUMMARY: Notice is hereby given that a permit has been issued to Brian Skerry, 285 High Street, Uxbridge, MA 01569, to conduct commercial or educational photography on bottlenose (Tursiops truncatus) and spinner (Stenella longirostris) dolphins.

ADDRESSES: The permit and related documents are available for review upon written request or by appointment in the following offices:

Permits and Conservation Division, Office of Protected Resources, NMFS, 1315 East-West Highway, Room 13705, Silver Spring, MD 20910; phone (301) 427-8401; fax (301) 713-0376;

Pacific Islands Region, NMFS, 1601 Kapiolani Blvd., Rm 1110, Honolulu, HI 96814-4700; phone (808) 944-2200; fax (808) 973-2941; and

Southeast Region, NMFS, 263 13th Avenue South, Saint Petersburg, FL 33701; phone (727) 824-5312; fax (727) 824-5309.

FOR FURTHER INFORMATION CONTACT: Carrie Hubard or Kristy Beard, (301) 427-8401.

SUPPLEMENTARY INFORMATION: On March 22, 2013, notice was published in the Federal Register (78 FR 17639) that a request for a permit to conduct commercial/educational photography had been submitted by the above-named applicant. The requested permit has been issued under the authority of the Marine Mammal Protection Act of 1972, as amended (16 U.S.C. 1361 et seq.) and the regulations governing the taking and importing of marine mammals (50 CFR part 216).

Permit No. 17941 authorizes two photography/filming projects. The first consists of helicopter flights over Florida Bay to film bottlenose dolphins mud-ring feeding. A maximum of 400 dolphins may be harassed during the filming. The second project focuses on areas where spinner dolphins and humans interact in Hawaii. Locations include the west side of Oahu and four bays on the Kona coast of Hawaii Island. Methods include both vessel-based and underwater photography. Up to 75 spinner dolphins may be approached within 50 yards during the filming. Four pantropical spotted dolphins (Stenella attenuata) may also be approached if they are associated with spinner dolphins. Images and video from both locations will be used for a feature story in National Geographic Magazine on dolphin cognition and intelligence. The permit expires on March 31, 2014.

In compliance with the National Environmental Policy Act of 1969 (42 U.S.C. 4321 et seq.), a final determination has been made that the activity proposed is categorically excluded from the requirement to prepare an environmental assessment or environmental impact statement.

Dated: May 31, 2013.
P. Michael Payne,
Chief, Permits and Conservation Division, Office of Protected Resources, National Marine Fisheries Service.

[FR Doc. 2013-13289 Filed 6-4-13; 8:45 am]

BILLING CODE 3510-22-P